DEPARTMENT OF TRANSPORTATION

Federal Transit Administration

FY 2024 Competitive Funding Opportunity: Coordinating Council on Access and Mobility (CCAM) National Technical Assistance Center

AGENCY: Federal Transit Administration (FTA), Department of Transportation (DOT).

ACTION: Notice of funding opportunity (NOFO).

SUMMARY: The Federal Transit Administration (FTA) announces the opportunity to apply for $2.5 million in Fiscal Year (FY) 2024 Technical Assistance and Workforce Development funds through a competitive cooperative agreement award to establish a Coordinating Council on Access and Mobility (CCAM) National Technical Assistance Center (CCAM TA Center) that supports CCAM members, Federal agencies, their grantees, partners, and stakeholders in improving transportation access for people with disabilities, older adults, and individuals of low income. The overarching mission of this new center is to promote and facilitate human services transportation, public transit, and non-emergency medical transportation (NEMT) coordination that advances people's access to everyday destinations.

DATES: Applicants must submit completed proposals for each funding opportunity through the GRANTS.GOV “APPLY” function by 11:59 p.m. Eastern Time August 30, 2024. Prospective applicants should register as soon as possible on the GRANTS.GOV website to ensure they can complete the application process before the submission deadline.

ADDRESSES: Application instructions are available at FTA's website at https://www.transit.dot.gov/notices-funding/competitive-funding-opportunity-coordinating-council-access-and-mobility-ccam and in the “FIND” module of GRANTS.GOV. The GRANTS.GOV funding opportunity ID for the CCAM TA Center is FTA-2024-011-TPM-CCAM. Mail and fax submissions will not be accepted.

FOR FURTHER INFORMATION CONTACT: Lynn Winchell-Mendy, FTA Office of Program Management; Phone: (202) 366-3239; Email Lynn.Winchell-Mendy@dot.gov. A TDD is available for individuals who are deaf or hard of hearing at (800) 877-8339. Prospective applications may visit the following website for more information: https://www.transit.dot.gov/notices-funding/competitive-funding-opportunity-coordinating-council-access-and-mobility-ccam

SUPPLEMENTARY INFORMATION:

Summary of Key Information: Coordinating Council on Access and Mobility National Technical Assistance Center Competitive Funding Opportunity
Issuing Agency | Federal Transit Administration, U.S. Department of Transportation.
Program Overview | The CCAM TA Center supports CCAM members, Federal agencies, their grantees, partners, and stakeholders in improving transportation access for people with disabilities, older adults, and individuals of low income. The overarching mission of this new center is to promote and facilitate human services transportation, public transit, and non-emergency medical transportation (NEMT) coordination that advances people's access to everyday destinations.
Eligible Applicants | National nonprofit organizations with a demonstrated capacity to advance technical assistance strategies that support CCAM members, Federal agencies, their grantees, partners, and stakeholders.
Eligible Projects | The overarching mission of this new center is to promote and facilitate human services transportation, public transit, and non-emergency medical transportation (NEMT) coordination that advances people's access to everyday destinations.
Funding Amount | $2.5 million for the first year.
Cost Share | The maximum Federal share of project costs under this program is 100 percent.
Deadline | August 30, 2024 at 11:59 PM Eastern Time.

Table of Contents

A. Program Description

B. Federal Award Information

C. Eligibility Information

D. Application and Submission Information

E. Application Review Information

F. Federal Award Administration Information

G. Federal Awarding Agency Contacts

H. Other Information

A. Program Description

This NOFO supports FTA's strategic goals and objectives by promoting safe, affordable, accessible, and multimodal access to opportunities and services while reducing transportation-related disparities, adverse community impacts, and health effects. The FTA solicits proposals for a cooperative agreement under FTA's Technical Assistance and Workforce Development program (49 U.S.C. 5314(a)(2)(B)), Assistance Listing 20.531, to establish, build, and manage a CCAM TA Center to encourage multisector coordination across the more than 130 Federal programs that may fund human services transportation; connect CCAM members, Federal agencies, their grantees, partners, and stakeholders; and support improved transportation access. The mission of the CCAM TA Center is to promote human services transportation coordination that advances people's access to everyday destinations.

In recognition of the fundamental importance of human services transportation and the continuing need to enhance coordination, Executive Order 13330 (February 24, 2004) on Human Service Transportation Coordination established the CCAM and directed multiple federal departments and agencies to work together to ensure that transportation services are seamless, comprehensive, and accessible. The members of the CCAM are: the Secretaries of the Departments of Transportation (DOT), Health and Human Services, Labor, Education, Interior, Housing and Urban Development, Agriculture, and Veterans Affairs; the Commissioner of the Social Security Administration; the Attorney General; and the Chairperson of the National Council on Disability.

The CCAM is tasked with seeking ways to simplify access to transportation services for people with disabilities, older adults, and individuals of low income. Funding is authorized under 49 U.S.C. 5314(a)(2)(B) for technical assistance to help providers of public transportation comply with human services transportation coordination requirements and to enhance the coordination of Federal resources for human services transportation with those of the DOT through technical assistance, training, and support services related to complying with such requirements.

The Fixing America's Surface Transportation (FAST) Act (Pub. L. 114-94) required the CCAM to develop a strategic plan to strengthen interagency collaboration, address outstanding recommendations, and eliminate burdensome regulatory barriers to human services transportation coordination. On October 27, 2022, the CCAM officially adopted the 2023-2026 CCAM Strategic Plan, which includes specific reference to establishing a CCAM TA Center:

• Goal 1

Strengthen the CCAM and improve multisector collaboration at all levels and across jurisdictions.

• Activity 1.1

Create and manage a CCAM national technical assistance (TA) center that works across multiple sectors and builds mobility management capacity, connecting regional, State, and local CCAM partners to improve transportation access.

• Performance Measure 1.1.1

By 2024, select one recipient from a Notice of Funding Opportunity (NOFO) to establish the CCAM national TA center.

FTA has previously carried out similar activities through a cooperative agreement that established and funded the National Center for Mobility Management (NCMM). The CCAM TA Center will be the successor of NCMM and build upon its previous work supporting the CCAM.

The CCAM TA Center will function as a “one-stop shop” for CCAM members, Federal agencies, their grantees, partners, and stakeholders to find information and receive assistance on multisector coordination in human services transportation. The primary goals and related activities of the CCAM TA Center are to:

1. Enhance safe, accessible, and equitable transportation options aligned with the CCAM through regional, state, and local coordination and strategic partnerships.

2. Actively engage CCAM members, Federal agencies, their grantees, partners, and stakeholders to emphasize the important role of transportation in access to services and everyday destinations, and to provide technical assistance to reduce barriers to human services transportation coordination.

3. Support and highlight the activities and initiatives of the CCAM, its workgroups, and partner agencies that improve Federal transportation coordination.

4. Disseminate guidance, best practices, and communication campaigns to increase agencies' awareness of available transportation resources and funding.

5. Provide self-directed and customized technical assistance, training, and support services to CCAM members, Federal agencies, their grantees, partners, and stakeholders.

6. Implement multisector planning and pilot grants to develop and test innovative regional or state-based transportation solutions.

7. Research certain subjects for new transportation-related data, strategies, or insights.

The CCAM TA Center will be managed by the recipient of the cooperative agreement in coordination with FTA headquarters staff. Eligible applicants are national nonprofit organizations with a demonstrated capacity to advance technical assistance strategies that support CCAM members, Federal agencies, their grantees, partners, and stakeholders as they work to develop multisector coordination and strategic partnerships around human services transportation.

This Notice solicits competitive proposals addressing the mission, goals, and tasks set forth for this new CCAM TA Center, provides instructions for submitting proposals, and describes the evaluation criteria for proposal selection.

This announcement is available on the FTA website at https://www.transit.dot.gov/notices-funding/competitive-funding-opportunity-coordinating-council-access-and-mobility-ccam. A synopsis of this funding opportunity will be posted in the “FIND” module of the government-wide, electronic grants website called GRANTS.GOV, which can be accessed at this web address: https://www.grants.gov.

B. Federal Award Information

FTA will award the CCAM TA Center as a 5-year cooperative agreement to a national nonprofit organization with a demonstrated capacity to advance technical assistance strategies that support CCAM members, Federal agencies, their grantees, partners, and stakeholders as they work to develop multisector coordination and strategic partnerships around human services transportation. This cooperative agreement will be managed by FTA's CCAM TA Center Program Manager in FTA's headquarters office.

The CCAM TA Center will benefit from having committed CCAM partners who will provide guidance and expertise. In turn, their stakeholders will receive tailored TA from the CCAM TA Center for their transportation-related needs. The following operating divisions of the U.S. Department of Health and Human Services have committed to being guidance partners in the CCAM TA Center: Administration for Children and Families (ACF), Administration for Community Living (ACL), Health Resources and Services Administration (HRSA), and Centers for Medicare and Medicaid Services (CMS). The following operating division of the U.S. Department of Agriculture has committed to being a guidance partner in the CCAM TA Center: Rural Development (RD). The following operating division of the U.S. Department of Labor has committed to being a guidance partner in the CCAM TA Center: Office of Disability Employment Policy (ODEP). The ACF, ACL, HRSA, CMS, RD and ODEP will participate in specific partnership activities as defined in the CCAM TA Center's Scope of Work (SOW), and have also committed to:

1. Designating at least one staff-level point person to act as a liaison to the Center;

2. Providing annual input into the Center's scope of work (SOW) and help prioritize activities for each of the five years;

3. Attending quarterly check-in meetings with the Center and FTA to receive status updates on the SOW implementation; and

4. Once the Center is established, being publicly acknowledged on the Center's website as a guidance partner.

Other CCAM members may enter their own financial assistance agreements with the successful applicant to address transportation coordination activities at any point during the 5-year cooperative agreement.

The FTA will award one cooperative agreement, funded up to $2.5 million for the first year with a start date in 2024 to be determined. FTA expects to award subsequent funding of up to $2.5 million per year for four additional years (for a total of $12.5 million over five years). However, the availability of funding after the first year will depend upon decisions and program priorities established by the Secretary of Transportation related to the implementation of provisions set forth in 49 U.S.C. 5314 (Section 5314), future authorizations and appropriations, and the CCAM TA Center's annual performance reviews. This funding opportunity will be awarded under the terms of a cooperative agreement. FTA will issue specific guidance to the awardee regarding pre-award authority at the time of selection. For more information about FTA's policy on pre-award authority, please see the most recent Apportionment Notice on FTA's website.

This project is funded under Section 5314 and therefore, FTA Circular 6100.1E Research, Technical Assistance, and Training Programs: Application Instructions and Program Management Guidelines (available at https://www.fta.dot.gov/regulations-and-guidance/fta-circulars/research-technical-assistance-and-training-program) will apply in administering the program. FTA will have substantial involvement in the administration of the cooperative agreement. FTA's role includes the right to participate in decisions to redirect and reprioritize project activities, goals, and deliverables.

C. Eligibility Information

1. Eligible Applicants

Eligible lead applicants are national nonprofit organizations with a demonstrated capacity to advance technical assistance strategies that support CCAM members, Federal agencies, their grantees, partners, and stakeholders as they work to develop multisector coordination and strategic partnerships around human services transportation. An eligible applicant may act as a lead entity for a partnership with one or more other eligible applicants that participate in the CCAM TA Center as subrecipients. Individuals and for-profit entities are ineligible to apply for this funding.

Lead applicants must have a demonstrated capacity to deliver a national technical assistance and training program, among other applicable methods to address the center's primary goals and related activities outlined above.

The cooperative agreement will be between FTA and the selected lead applicant, which must have a primary or substantial interest in performing a majority of the work in the project and must not simply act as a pass-through for funds. An application by a group of eligible applicants must clearly identify the lead applicant. Lead applicants should include a letter of confirmed support with sufficient evidence of the partnership (subrecipients) from each national nonprofit organization as part of its application. Sufficient evidence may include a memorandum of agreement or letter of intent that describes the parties' roles, responsibilities, and financial commitment to the proposed project. Individuals, for-profit entities, and other Federal agencies are ineligible to apply for this funding.

2. Cost Sharing

The FTA will fund up to 100 percent Federal share but may give priority consideration to proposals that include non-federal matching funds. See 2 CFR 200.306(b) and FTA Circular 6100.1E for acceptable forms of local match.

D. Application and Submission Information

1. Address To Request Application Package

Applications must be submitted, electronically, through GRANTS.GOV. Applicants can find general information for submitting applications through GRANTS.GOV. Mail and fax submissions will not be accepted. Applicants may also attach additional supporting information. Failure to submit the information as requested may delay or prevent review of the application.

2. Content and Form of Application Submission

A complete proposal submission consists of at least two forms: (1) the SF-424 Mandatory Form (downloaded from GRANTS.GOV or at the FTA website at https://www.transit.dot.gov/notices-funding/competitive-funding-opportunity-coordinating-council-access-and-mobility-ccam; and (2) a narrative application document submitted in a Microsoft Word, Adobe Acrobat, or compatible file format, double-spaced using Times New Roman, 12-point font. Once completed, the narrative application document must be placed in the attachments section of the SF-424 Mandatory form. Applicants must attach the narrative application file to their submission in GRANTS.GOV to successfully complete the proposal process.

The application must include responses to all sections of the SF-424 Mandatory Form and all components of the narrative application document unless a section is indicated as optional. FTA will use the information in the narrative application document to determine applicant and project eligibility and to evaluate the proposal against the selection criteria described in part E of this notice. If applicants choose to submit separate proposals for individual consideration by FTA, they must submit each proposal with a separate SF-424 and narrative application document.

Applicants may attach additional supporting information to the SF-424 submission, including, but not limited to letters of support, memorandums of understanding, interagency agreements, project budgets, or excerpts from other relevant documents. Supporting documentation must be described and referenced by file name in the narrative application document, or it may not be reviewed.

Applicants must fill in all fields unless stated otherwise on the SF-424 form and include all requested components of the narrative application document. If applicants copy information from another source, they should verify that the form and narrative application document have fully captured pasted text and that it has not truncated the text due to character limits built into the form. Applicants should use both the “Check Package for Errors” and the “Validate Form” buttons on all required fields in the SF-424.

The narrative application document must contain the following components and adhere to the specified maximum lengths:

a. Cover sheet (1 page). The cover sheet must include the name of the entity submitting the proposal, the principal's name, title, and contact information (e.g., address, phone, and email), and the name and contact information for the key point of contact for each primary goal and related activities of the agreement referenced under the “Program Description” (Section A) of this Notice.

b. Detailed budget proposal and budget narrative (not to exceed 3 pages)

c. Project narrative and qualifications (not to exceed 10 pages). The applicant should submit a project narrative statement describing, for itself or in combination with its committed partners:

i. The existing and future capacity of the applicant to implement the project goals, objectives, activities, deliverables, milestones, timeline, and intended outcomes for the CCAM TA Center.

ii. The methodology for addressing the project goals, objectives, activities, deliverables, milestones, timeline, and intended outcomes for the CCAM TA Center.

iii. The methodology used to develop performance measures and track the benefits of the CCAM TA Center, including how the applicant and its partners will assess success:

vi. The applicant's understanding of the CCAM, its priorities, and the 2023-2026 CCAM Strategic Plan;

v. The applicant's knowledge and experience with developing and supporting multisector strategic partnerships, Federal Fund Braiding, Cost Allocation, Cost Sharing, Vehicle Sharing, and other CCAM initiatives;

vi. The applicant's demonstration of awareness of mobility management as a strategy to improve human services transportation coordination;

vii. The applicant's experience with grant-making developing performance measures, tracking performance and spending, and communicating lessons learned and project benefits to stakeholders;

viii. The applicant's knowledge of non-emergency medical transportation (NEMT) and its relationship with public transit;

ix. A detailed plan for communication, technical assistance, and outreach at all levels, including how the applicant will work with CCAM members, Federal agencies, their grantees, and partners and stakeholders to obtain input and promote coordination, build partnerships, encourage adoption of CCAM initiatives, and equip them to problem-solve transportation-related access to their programs;

ix. Staff qualifications including: (1) prior experience providing technical assistance (especially related to multisector partnerships, coordination, and mobility management) to CCAM members, Federal agencies, their grantees, and partners and stakeholders, (2) prior experience implementing the other tasks outlined in this solicitation, (3) staff members' knowledge of NEMT, Federal Fund Braiding, the 2023-2026 CCAM Strategic Plan, and other CCAM initiatives, and (4) a one-page biographical sketch for each key staff person whose knowledge, skills, and experience demonstrate the applicant's capacity to deliver its proposal from the applicant and its proposed subrecipients.

d. Statement of activities (not to exceed 15 pages). The application also should discuss how the recipient will perform the following short-term and long-term activities:

Short-Term Activities:

1. Hiring needed staff and setting up the new center, including developing a website (including resources previously developed through the National Center for Mobility Management), that houses and delivers a library of applicable coordination tools and guidance; acts as a clearinghouse for information on multi-sector partnerships and coordination; and facilitates outreach to CCAM members, Federal agencies, their grantees, partners, and stakeholders.

2. Developing an online fully functional CCAM TA Center Help Desk that will enable email and phone technical assistance inquiries and responses to questions/topics on multisector partnerships, Federal fund braiding, vehicle sharing, cost allocation, and other CCAM initiatives; this system should be able to gather performance measures that track web-analytics, technical assistance requests, time to resolution of requests, types of requests, and enable quarterly reports to FTA on what activities have been completed, how many people have received assistance, the cost of that assistance, and the satisfaction of those who sought assistance.

3. Developing an SOW for the first year of operations of the CCAM TA Center, including but not limited to:

○ Recommendations to FTA on a multisector planning/pilot grant program that promotes and appraises the benefits of innovative, regional or state-based transportation solutions;

○ An outreach plan to promote the center, its resources and relevant news through various channels (e.g., emails, blogs, social media, newsletter);

○ A plan for transition of the existing NCMM website, including the Community Transportation Map and Database, and related products, as well as the Transportation Technical Assistance Coordination Library (TACL) to the new Center;

○ A plan to transition the existing CCAM Cost Allocation Technology for Non-Emergency Medical Transportation model, developed with FTA funding in response to section 3006(c)(1)(A) of the FAST Act, to the CCAM TA Center website and provide ongoing maintenance, promotion, and technical assistance on how to use it.

Relevant websites can be found in Section H, Other Information.

Long-term/ongoing activities:

1. Educating CCAM members and their networks by providing TA in a variety of ways:

○ Spreading awareness about the important role of transportation in access to services and everyday destinations and how to provide technical assistance to reduce barriers to human services transportation coordination;

○ Developing written and electronic training materials that explain how to leverage funds from CCAM partners to support transportation coordination activities;

○ Mapping and disseminating information on available funding opportunities;

○ Maintaining a resource library that tracks and shares results from successful multisector partnerships, case studies, promising and best practices, videos, publications, and webinars;

○ Managing the Transportation Technical Assistance Coordination Library (TACL), including managing inquiries, keeping information current, convening members for the review and approval process, and assessing its use;

○ Promoting CCAM coordination tools and guidance, like the Federal Fund Braiding Guide, Program Inventory, Cost-Sharing Policy, and Vehicle Sharing Policy, and how to use them;

2. Encouraging and supporting transportation-related coordination and access through the use of CCAM initiatives at the state and regional levels by, for example:

○ Pursuing, facilitating, and supporting partnerships between transportation agencies and organizations that provide health-related and social services;

○ Disseminating information on NEMT, examples of coordination between state Medicaid agencies, state DOTs, transit associations, and public transit agencies, and addressing related technical assistance inquiries;

○ Fostering relationships with other CCAM member TA Centers and their grantees through peer-to-peer meeting exchanges and collaboration opportunities (e.g., joint convenings, webinars, publications, presentations at CCAM member conferences);

○ Managing relationships with and coordinating the activities of CCAM members who contribute resources to the CCAM TA Center, through facilitating regular meetings, sharing outputs and outcomes, and identifying opportunities for joint activities;

3. Supporting and guiding CCAM members, Federal agencies, their grantees, and partners and stakeholders in identifying needs, barriers to transportation coordination, and developing solutions, (e.g., establishing regional liaisons, planning and facilitating roundtables or meetings at the state level, obtaining input through surveys and data collection);

4. Developing a mechanism to utilize CCAM member program staff, recipients of federal funding from a CCAM member agency, national organizations, and other applicable stakeholders to guide the work of the center (e.g., determining focus of projects and serving on the selection committee for the CCAM TA Center grant program, selecting and managing a Speaker's Bureau for partner events, recommending topic areas for technical assistance products, reviewing publications as appropriate);

5. Developing a grant program that offers funding for planning or pilot projects, as subawards under this cooperative agreement's budget and SOW, which:

○ Stems from identified needs, trends, and gaps in multi-sector transportation coordination;

○ Encourages multisector collaboration in the composition of the project team or project advisory group;

○ Tracks the impact of funded projects on human services transportation coordination and people's access to everyday destinations;

○ Frames the technical assistance delivered by the Center (e.g., best practices, case studies, webinars);

○ Serves as a pipeline for innovative multisector project applications for FTA funding programs (e.g., Sections 5307, 5310, 5311, 5312, and Innovative Coordinated Access and Mobility (ICAM) Grants) to increase sustainability and match funding.

6. Analyzing research from sources such as the Transit Cooperative Research Program (TCRP) Reports; FTA's Research and Innovation Program; and other FTA-funded TA centers;

7. Developing a feedback system that enables opportunities for improvement of the Center's customer service, programs, and processes; and

8. Developing a plan for evaluating the CCAM TA Center's activities and performance measures.

f. Supplemental Materials

Supplemental materials, such as letters of support, can be included in appendices that are beyond the page limits above but are not to exceed 15 additional pages.

g. Geographic Location, Target Groups, and Emphasis Areas

The precise locations of the proposed partners, while identifying their areas of expertise, and impacts expected from their direct involvement in the CCAM TA Center. Graphic aids may be attached as needed.

h. Strategic External Partners Other Than Subrecipients

FTA expects applicants to engage a broad range of stakeholder organizations to deliver the short-term and long-term activities of the CCAM TA Center. These stakeholder organizations may provide input into CCAM TA Center activities, including providing strategies for meeting the diverse needs of CCAM members, Federal agencies, their grantees, and others.

To be eligible for funding under this NOFO, applicants must demonstrate the ability to develop relationships with external partners to support the CCAM TA Center's primary target audience.

External partner entities could include, but are not limited to:

○ Federally-supported technical assistance centers

○ Operators of public transportation

○ Educational institutions, which include entities providing professional accreditation, degree, or certification programs, such as universities, community colleges, or trade schools, either non-profit or for-profit

○ Non-profit organizations that support the mission of human services transportation coordination and multisector partnerships

○ Recipients of federal funding from a CCAM member agency

An applicant should include evidence of partnerships as part of its application. Sufficient evidence may include a memorandum of agreement or letter of intent that describes the parties' roles, responsibilities, and commitment to the proposed project.

3.Unique Entity Identifier and System for Award Management (SAM)

Each applicant is required to: (1) register in SAM before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making the award to another applicant. These requirements do not apply if the applicant has an exception approved by FTA under 2 CFR 25.110 (c) or (d). SAM registration takes approximately 3-5 business days, but FTA recommends allowing ample time, up to several weeks, for completing all steps. For additional information on obtaining a unique entity identifier, please visit https://www.sam.gov.

4. Submission Dates and Times

Project proposals must be submitted electronically through the GRANTS.GOV website at https://www.grants.gov by 11:59 p.m. Eastern Time August 30, 2024. Late applications will not be accepted. Mail and fax submissions will not be accepted. Prospective applicants should initiate the process by registering on the GRANTS.GOV website promptly to ensure completion of the application process before the submission deadline.

FTA urges applicants to submit applications at least 72 hours prior to the due date to allow time to correct any problems that may have caused GRANTS.GOV to reject the submission. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

5. Funding Restrictions

Proposed projects under the CCAM TA Center must provide direct support to CCAM members, Federal agencies, their grantees, and partners and stakeholders in improving transportation access for people with disabilities, older adults, and individuals of low income. Capital expenses such as equipment purchases are not considered to be eligible costs unless they directly relate to the technical assistance being supported by FTA funds. Acceptable costs can include but are not limited to technology and start-up costs for information technology systems and website resources, subject matter expert consultants as needed, salaries and fringe benefits of direct staff, support staff, staff travel to attend relevant conferences and provide on-site technical assistance, office space, program materials and supplies, and indirect costs.

Funds awarded under this notice cannot be used to reimburse projects for otherwise eligible expenses incurred prior to FTA award of a grant agreement or cooperative agreement unless FTA has issued a “Letter of No Prejudice” for the project before the expenses are incurred. Allowable direct and indirect expenses must be consistent with the Governmentwide Uniform Administrative Requirements and Cost Principles (2 CFR part 200) and FTA Circular 5010.I.E.

6. Other Submission Requirements

Applicants may submit more than one proposal. However, proposals must not be duplicative. Submission of multiple proposals from a single entity will not increase that entity's chances of being awarded funding.

E. Application Review Information

1. Criteria

FTA will evaluate proposals according to the following criteria:

a. Project Management Approach—FTA will evaluate whether an applicant's proposal demonstrates the ability to meet and measure the goals of the CCAM TA Center, to deliver the proposed outcomes and carry out the technical assistance requirements as evidence by an effective program management plan. Consideration will be given to the extent to which an applicant identifies a unique or innovative approach in providing technical assistance to promote multisector coordination in human services transportation.

b. Organizational Capacity, Qualifications and Experience of Staff and Key Personnel—FTA will evaluate the capacity of the lead applicant and its proposed partners and subrecipients to effectively staff the proposed CCAM TA Center and deliver the proposed outcomes, as well as the fiscal, administrative, and performance management capacity in implementing key components.

c. Knowledge and Understanding of CCAM—FTA will evaluate the applicant on demonstrated understanding of the CCAM, its members, their networks and technical assistance centers, and CCAM's priorities, initiatives, and tools.

d. Strategic Partnership Development and Outreach—FTA will evaluate whether proposals demonstrate an ability to develop and maintain long-standing and strong partnerships (other than subrecipients) among CCAM members, Federal agencies, their grantees, and partners and stakeholders, and the applicant's plan to communicate CCAM priorities and initiatives and include them in CCAM TA Center activities and technical assistance opportunities.

e. Research and Demonstration Capacity—Proposals should demonstrate the applicant's capability and capacity (either by itself or in combination with its proposed subrecipients and other partners) to conduct research, analysis, and demonstration projects related to mobility management and multisector transportation coordination in support of CCAM members, Federal agencies, their grantees, and partners and stakeholders.

2. Review and Selection Process

A technical evaluation committee made up of FTA staff, including the FTA CCAM TA Center Program Manager, will screen each application for eligibility and evaluate proposals based on the published evaluation criteria. FTA may request clarification from any applicant about any statement in its application that FTA finds ambiguous or request additional documentation to be considered during the evaluation process to clarify information contained in the proposal. After considering the findings of the technical evaluation committee, the FTA Administrator will determine the final selection.

3. Integrity and Performance Review

Prior to making an award, FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206, Federal Awarding Agency Review of Risk Posed by Applicants.

F. Federal Award Administration Information

1. Federal Award Notice

After the FTA Administrator has selected the proposal to be funded, the successful applicant will be notified by email or telephone of their selection, and in addition, the selection will be announced on FTA's website.

2. Administrative and National Policy Requirements

a. Execution of the FTA Agreement

FTA will instruct the successful applicant how to execute their cooperative agreement in FTA's electronic Transit Award Management System (TrAMS). FTA may withdraw its offer to provide Federal assistance if the recipient does not provide an application in TrAMS consistent with the applicant's proposal submission within 90 days following the date of FTA's selection of the applicant.

b. Start Date and Incurred Costs

Unless FTA states otherwise in writing, costs incurred prior to FTA award are not eligible as project expenses. The recipient may begin to incur project costs when the award is executed in FTA's Transit Award Management System (TrAMS). FTA expects recipients to implement the projects awarded as soon as possible and to fully accomplish objectives during the agreed period of performance, recognizing that full transparency and accountability are required for all expenditures.

c. Standard Assurances

Selected recipients must comply with all Federal statutes, regulations, executive orders, directives, FTA circulars, and other Federal administrative requirements in carrying out project supported activities by this FTA award. In addition to these requirements, recipients of FTA funds are required to execute the most current Certifications and Assurances before entering into a grant or cooperative agreement.

d. Statement of Work

Once selected for award, the recipient will prepare a Statement of Work (SOW) for its award in a format provided by FTA. The SOW includes estimated milestone dates and performance measures and goals for major activities and products which are SMART—specific, measurable, achievable, relevant, and timebound. Activities should be justified in terms of eligible program activities and proposals should clearly demonstrate the connection between the planned work and at least one of the specific program activities cited. The SOW also should address supporting activities, such as marketing plans for engaging participants or dissemination strategies for sharing the results, if such are critical to the success of the CCAM.

This cooperative agreement will be managed from FTA's headquarters office. FTA—in consultation with ACF, ACL, HRSA, CMS, RD, and ODEP—will participate in activities by negotiating the final SOW, attending review meetings, commenting on technical reports, maintaining frequent contact with the project manager, approving key decisions and activities, and redirecting project activities, as needed.

e. Measuring Outcomes

The recipient will be required to assist FTA evaluate the project and its outcomes. FTA will evaluate the project according to the metrics and goals approved in the Statement of Work for the project. FTA anticipates applying metrics, among others, that will demonstrate target audience usage and feedback on the services and resources of the center.

f. Data Access & Data Sharing

Recipients funded under this announcement will be required to gather and share all relevant and required data with FTA within appropriate and agreed-upon timelines, to support any project evaluations.

In response to the White House Office of Science and Technology Policy memorandum, dated February 22, 2013, titled “Increasing Access to the Results of Federally Funded Scientific Research,” the Department is incorporating Public Access requirements into all funding award (e.g., grants, cooperative agreements, etc.) for scientific research. Recipients are required to include these obligations in any sub-awards or other related funding agreements.

Recipients must remove all confidential business information (CBI) or personally identifiable information (PII) information before providing public access to any project data. All appropriate data are to be accessible to FTA and the public for a minimum of 5 years after the period of performance has expired. Recipients and sub-recipients must make available to FTA copies of all work developed in performance of a project funded under this announcement, including but not limited to software and data.

g. Knowledge Transfer

Recipients and sub-recipients may be asked, during the period of performance, to participate in information exchange meetings, webinars, or outreach events to support FTA's goal of advancing models of success and information that is helping to address human services transportation coordination.

3. Reporting

Post-award reporting requirements include electronically submitting Federal Financial Reports and Milestone Progress Reports in FTA's electronic grants management system and providing requested information for FTA to complete its Annual Report on Technical Assistance and Workforce Development (Fiscal Year 2022 Report 0240).

As part of completing the annual certifications and assurances required of FTA recipients, a successful applicant must report on the suspension or debarment status of itself and its principals. If the award recipient's active grants, cooperative agreements, and procurement contracts from all Federal awarding agencies exceeds $10,000,000 for any period of time during the period of performance of an award made pursuant to this Notice, the recipient must comply with the Recipient integrity and Performance Matters reporting requirements described in Appendix XII to 2 CFR part 200.

G. Federal Awarding Agency Contact

For questions about applying for the funding opportunity outlined in this notice, please contact the CCAM TA Center Program Manager, Lynn Winchell-Mendy, phone: 202.366.3239, or email: Lynn.Winchell-Mendy@dot.gov. A TDD is available at 800.877.8339 (TDDFIRS). Additionally, you may visit FTA's website for this program at https://www.transit.dot.gov/notices-funding/competitive-funding-opportunity-coordinating-council-access-and-mobility-ccam.

For more on managing projects in accordance with FTA requirements, see FTA Circular 6100.1E. This Circular includes requirements on project management and administration including quarterly reporting, financial management, and payment.

To ensure that applicants receive accurate information about eligibility or the program, applicants are encouraged to contact FTA directly with questions, rather than through intermediaries or third parties.

H. Other Information

This program is not subject to Executive Order 12372, Intergovernmental Review of Federal Programs.

All information submitted as part of or in support of any application shall use publicly available data or data that can be made public and methodologies that are accepted by industry practice and standards, to the extent possible. The Department may share application information within the Department or with other Federal agencies if the Department determines that sharing is relevant to the respective program's objectives. All information submitted to FTA will become records of FTA and may be disclosed in response to a Freedom of Information Act (FOIA) request. If an applicant submits information the applicant considers to be a trade secret or confidential commercial or financial information, the applicant must provide that information in a separate document, which the applicant may reference from the application narrative or other portions of the application. For the separate document containing confidential information, the applicant must do the following: (1) state on the cover of that document that it “Contains Confidential Business Information (CBI);” (2) mark each page that contains confidential information with “CBI;” and (3) highlight or otherwise denote the confidential content on each page. FTA will protect confidential information complying with these requirements to the extent required under applicable law. If FTA receives a Freedom of Information Act (FOIA) request for the information that the applicant has marked in accordance with this section, FTA will follow the procedures described in DOT's FOIA regulations at 49 CFR 7.29. Only information that is in the separate document, marked in accordance with this paragraph, and ultimately determined by FTA to be confidential will be exempt from disclosure under FOIA.

For more information on the CCAM, its members, initiatives, resources (including the CCAM Cost Allocation Model, the CCAM Federal Fund Braiding Guide, and the CCAM Program Inventory), and 2023-2026 Strategic Plan, see https://www.transit.dot.gov/coordinating-council-access-and-mobility.

For more information on the National Center for Mobility Management and its initiatives and resources, including the Community Transportation Map and Database, see https://nationalcenterformobilitymanagement.org/.For more information on FTA's Sponsored Technical Assistance Centers see https://www.transit.dot.gov/regulations-and-programs/access/ccam/about/federal-transit-administration-sponsored-technical.

For more information on FTA's Transportation Technical Assistance Coordination Library (TACL) see https://www.nationalrtap.org/Resource-Center/TACL.

For more information on FTA's cost allocation methodology and technology, see https://www.transit.dot.gov/access/ccam/cost-allocation-technology-non-emergency-medical-transportation-final-report.

For more information on NEMT see https://www.cms.gov/medicare/medicaid-coordination/states/non-emergency-medical-transportation.

The FTA Annual Report on Technical Assistance and Workforce Development for Fiscal Year 2022 (Report 0240) can be found at https://www.transit.dot.gov/research-innovation/fta-annual-report-technical-assistance-and-workforce-development-fiscal-year.

Veronica Vanterpool,
Acting Administrator.

[FR Doc. 2024-14428 Filed 6-28-24; 8:45 am]

BILLING CODE 4910-57-P